ENVIRONMENTAL PROTECTION AGENCY

40 CFR Part 52

[EPA-R06-OAR-2025-0197; FRL-12217-03-R6]

Air Plan Approval; Texas and Oklahoma; Texas Regional Haze Plans for the First and Second Implementation Periods and Five-Year Progress Report; Oklahoma Regional Haze Plan for the First Implementation Period; Extension of Comment Period

AGENCY: Environmental Protection Agency (EPA).

ACTION: Proposed rule; extension of comment period.

SUMMARY: The Environmental Protection Agency (EPA) is extending the comment period for the proposed rule “Air Plan Approval; Texas and Oklahoma; Texas Regional Haze Plans for the First and Second Implementation Periods and Five-Year Progress Report; Oklahoma Regional Haze Plan for the First Implementation Period” that was published on May 23, 2025. The proposal provided for a public comment period ending June 23, 2025. The EPA is extending the comment period to July 23, 2025.

DATES: The comment period for the proposed rule published May 23, 2025 (90 FR 22166), is extended. Written comments must be received on or before July 23, 2025.

ADDRESSES: Submit your comments, identified by Docket No. EPA-R06-OAR-2025-0197, at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

Docket: The index to the docket for this action is available electronically at www.regulations.gov. While all documents in the docket are listed in the index, some information may not be publicly available due to docket file size restrictions or content (e.g., CBI).

FOR FURTHER INFORMATION CONTACT: Michael Feldman, U.S. Environmental Protection Agency, Region 6, Air and Radiation Division, SO2 and Regional Haze Section (ARSH), 1201 Elm Street, Suite 500, Dallas, Texas 75270, 214-665-9793, Feldman.Michael@epa.gov. We encourage the public to submit comments via https://www.regulations.gov. Please call or email the contact listed above if you need alternative access to material indexed but not provided in the docket.

SUPPLEMENTARY INFORMATION: Throughout this document wherever “we,” “us,” or “our” is used, we mean the EPA.

On May 23, 2025 (90 FR 22166), we published in the Federal Register “Air Plan Approval; Texas and Oklahoma; Texas Regional Haze Plans for the First and Second Implementation Periods and Five-Year Progress Report; Oklahoma Regional Haze Plan for the First Implementation Period,” where we proposed to approve the following Texas and Oklahoma regional haze State Implementation Plan (SIP) submissions as satisfying applicable requirements under the Clean Air Act (CAA) and EPA's Regional Haze Rule: (1) Texas 2014 five-year progress report and 2021 plan for the second implementation period; (2) portions of the 2009 Texas and 2010 Oklahoma plans that relate to reasonable progress requirements for the first planning period.¹ We have decided to allow an additional 30 days for the public to comment. The original deadline to submit comments was June 23, 2025. We are extending the comment period to July 23, 2025. This action will allow interested persons additional time to prepare and submit comments on the stated proposed action.

¹ 2009 Texas regional haze SIP for the first planning period submitted March 31, 2009; 2014 Texas regional haze 5-year progress report submitted March 24, 2014; Texas regional haze for the second planning period submitted July 20, 2021; and 2010 Oklahoma regional haze plan for the first planning period submitted February 25, 2010.

List of Subjects in 40 CFR Part 52

Environmental protection, Air pollution control, Incorporation by reference, Intergovernmental relations, Nitrogen dioxide, Ozone, Particulate matter, Reporting and recordkeeping requirements, Sulfur oxides.

Authority: 42 U.S.C. 7401 et seq.

Dated: June 11, 2025.
James McDonald,
Director, Air and Radiation Division, Region 6.

[FR Doc. 2025-11272 Filed 6-18-25; 8:45 am]

BILLING CODE 6560-50-P